DEPARTMENT OF DEFENSE

Office of the Secretary

[Docket ID: DoD-2024-OS-0146]

Submission for OMB Review; Comment Request

AGENCY: The Office of the Assistant to the Secretary of Defense for Public Affairs, Department of Defense (DoD).

ACTION: 30-Day information collection notice.

SUMMARY: The DoD has submitted to the Office of Management and Budget (OMB) for clearance the following proposal for collection of information under the provisions of the Paperwork Reduction Act.

DATES: Consideration will be given to all comments received by April 21, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: American Forces Network Connect and American Forces Network Now; OMB Control Number 0704-0547.

Type of Request: Revision.

Number of Respondents: 40,000.

Responses per Respondent: 1.

Annual Responses: 40,000.

Average Burden per Response: 10 minutes.

Annual Burden Hours: 6,667.

Needs and Uses: This information collection is necessary to obtain and audit the eligibility of DoD employees, DoD contractors, Department of State employees, military personnel (including retirees and active reservists) and their family members outside the United States, its territories, or possessions, to receive restricted American Forces Network programming services (i.e., radio, television, and web streaming services). Data will also be collected to ensure the DMA provides its services in the most efficient and cost-effective manner.

Affected Public: Individuals or households.

Frequency: Annually.

Respondent's Obligation: Voluntary.

DOD Clearance Officer: Mr. Reginald Lucas.

Dated: March 18, 2025.
Aaron T. Siegel,
Alternate OSD Federal Register Liaison Officer, Department of Defense.

[FR Doc. 2025-04862 Filed 3-20-25; 8:45 am]

BILLING CODE 6001-FR-P